INTERNATIONAL TRADE COMMISSION

[Investigation Nos. 701-TA-754 and 731-TA-1732 (Final)]

Temporary Steel Fencing From China; Revised Schedule for the Subject Proceeding

AGENCY: United States International Trade Commission.

ACTION: Notice.

DATES: November 21, 2025.

FOR FURTHER INFORMATION CONTACT: Kristina Lara (202-205-3386), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this proceeding may be viewed on the Commission's electronic docket (EDIS) at https://edis.usitc.gov.

SUPPLEMENTARY INFORMATION: Effective August 19, 2025, the Commission established a schedule for the conduct of the subject proceeding (90 FR 44103, September 11, 2025). Due to the lapse in appropriations and ensuing cessation of Commission operations, the Commission is revising its schedule as follows: the prehearing staff report will be placed in the nonpublic record on February 4, 2026; the deadline for filing prehearing briefs is February 11, 2026; requests to appear at the hearing must be filed with the Secretary to the Commission on February 13, 2026; a prehearing conference will be held on February 17, 2026, if deemed necessary; parties shall file and serve written testimony and presentation slides in connection with their presentation at the hearing by no later than noon on February 18, 2026; the hearing will be held at the U.S. International Trade Commission Building at 9:30 a.m. on February 19, 2026; the deadline for filing posthearing briefs and for written statements from any person who has not entered an appearance as a party is February 26, 2026; the Commission will make its final release of information on March 12, 2026; and final party comments are due on March 17, 2026.

For further information concerning this proceeding, see the Commission's notice cited above and the Commission's Rules of Practice and Procedure, part 201, subparts A and B (19 CFR part 201), and part 207, subparts A and C (19 CFR part 207).

Authority: This proceeding is being conducted under authority of title VII of the Tariff Act of 1930; this notice is published pursuant to section 207.21 of the Commission's rules.

By order of the Commission.
Issued: November 21, 2025.
Sharon Bellamy,
Supervisory Hearings and Information Officer.

[FR Doc. 2025-21117 Filed 11-25-25; 8:45 am]

BILLING CODE 7020-02-P